DEPARTMENT OF AGRICULTURE

Animal and Plant Health Inspection Service

[Docket 04-095-1]

Big Cat Symposia; Animal Care

AGENCY: Animal and Plant Health Inspection Service, USDA.

ACTION: Notice of informational meetings.

SUMMARY: This is a notice to animal exhibitors, dealers, transporters, researchers, animal protection groups, industry groups, and other interested persons that we are holding a series of educational symposia to present current information on the care and maintenance of exotic big cats. This notice provides the agenda for the symposia and information on the location and dates of the final two symposia.

DATES: The next symposium will be held in Bridgeton, MO, on Wednesday, October 27, 2004. The following symposium will be held in Riverdale, MD, on Wednesday, December 8, 2004. Each symposium will be held from 8 a.m. to 5 p.m. Registration information is provided in the SUPPLEMENTARY INFORMATION section of this notice.

ADDRESSES: The symposia will be held at the following locations:

1. Bridgeton, MO: Crowne Plaza St. Louis Airport Hotel, 11228 Lone Eagle Drive, Bridgeton, MO 63044, (314) 291-6700.

2. Riverdale, MD: USDA Center at Riverside, 4700 River Road, Riverdale, MD 20737, (301) 734-7833.

FOR FURTHER INFORMATION CONTACT: For further information on the agenda of the symposia, contact Dr. Barbara Kohn, Senior Staff Veterinarian, Animal Care, 4700 River Road Unit 84, Riverdale, MD 20737-1234; (301) 734-7833.

SUPPLEMENTARY INFORMATION: The Animal and Plant Health Inspection Service (APHIS), Animal Care, has been hosting a series of educational symposia on the care and maintenance of exotic big cats. The symposia are designed to provide a forum for information dissemination on various topics that are key to the successful management and handling of exotic big cats. These symposia have been held in locations across the country to facilitate attendance by most of our regulated parties that maintain these animals.

The first of these meetings was held on March 26, 2003, in Fort Worth, TX. On April 30, 2003, the second meeting was held in Las Vegas, NV. The third meeting was held November 19, 2003, in Columbus, OH, and the fourth on January 7, 2004, in Sarasota, FL. The final two symposia of this series will be held at the Crowne Plaza St. Louis Airport Hotel, 11228 Lone Eagle Drive, Bridgeton, MO, on October 27, 2004, and at the USDA Center at Riverside, 4700 River Road, Riverdale, MD, on December 8, 2004.

The symposia have been developed to provide current information and ideas on a variety of topics. Each symposium will, with the exception of possible minor modifications, follow the same agenda. The symposia will start with general session, followed by breakout sessions allowing more interaction between speakers and attendees. The agenda for these symposia is:

7:30 a.m. to 8:30 a.m.—Registration.

8 a.m. to 11:30 a.m.—General Session:

Welcome.

Nutrition.

Veterinary Care and Tranquilization.

Transportation.

New Training Methods.

11:30 a.m. to 1 p.m.—Lunch (on own).

1 p.m. to 2:30 p.m.—Concurrent Breakout Session #1:

Explaining APHIS Regulations.

Nutrition.

Training.

2:45 p.m. to 4:15 p.m.—Concurrent Breakout Session #2:

Transportation/Good and Not so Good.

Veterinary Care Issues.

Heat Budgets and Shade (avoiding overheating and overcooling).

4:15 p.m. to 5 p.m.—Questions and Answers and Closing.

Notice of these symposia is being sent to current Animal Welfare Act licensees with exotic big cats and may be viewed on the Animal Care Web site at http://www.aphis.usda.gov/ac. Copies of the brochure prepared for the symposia can be requested by calling our headquarters at (301) 734-7833 or by e-mailing the request to ACE@aphis.usda.gov.

Please note that these symposia are being held to provide and disseminate information on the care and maintenance of big exotic cats under the Animal Welfare Act. There will be no opportunity at these symposia to submit formal comments on proposed rules or other regulatory initiatives.

Registration

As seating for each symposium is limited, we request that you preregister by calling (301) 734-7833 or by e-mailing Animal Care at ACE@aphis.usda.gov. Please identify the symposium you will be attending and provide your name, number of attendees, phone number, e-mail address, or other contact address. This information is needed so that we may inform registrants in a timely manner in the event of any changes to the meeting schedule. The deadline for preregistration is October 1, 2004, for the Bridgeton symposium, and December 1, 2004, for the Riverdale symposium. On-site registration will take place from 7:30 a.m. to 8:30 a.m. on the date of each symposium.

Travel and Lodging Information

All attendees are responsible for making their own travel and lodging arrangements. No rooms have been reserved for attendees at symposium hotels or any other hotels.

Parking and Security Procedures for Riverdale Symposium

Please note that a fee of $2.25 is required to enter the parking lot at the USDA Center at Riverside. The machine accepts $1 bills or quarters.

Picture identification is required to be admitted into the building. Upon entering the building, visitors should inform security personnel that they are attending the Big Cat symposium.

Done in Washington, DC, this 17th day of September 2004.
Kevin Shea,
Acting Administrator, Animal and Plant Health Inspection Service.

[FR Doc. E4-2343 Filed 9-22-04; 8:45 am]

BILLING CODE 3410-34-P